DEPARTMENT OF THE INTERIOR

National Park Service

National Register of Historic Places; Notification of Pending Nominations and Related Actions

Nominations for the following properties being considered for listing or related actions in the National Register were received by the National Park Service before January 16, 2010. Pursuant to § 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by February 3, 2010.

J. Paul Loether,
Chief, National Register of Historic Places/National Historic Landmarks Program.

ARKANSAS

Franklin County

Johnson County Line-Ozark-Crawford County Line Road, Altus Segment (Arkansas Highway History and Architecture MPS), Connector Rd. between Robin Way and Pierce Rd., Altus, 10000033

Stone County

North Sylamore Creek Bridge (Historic Bridges of Arkansas MPS), FSR 1102 over N. Sylamore Creek, Fifty-Six, 10000034

COLORADO

San Miguel County

Valley View Leasing and Mining Company Mill (Mining Industry in Colorado, MPS), CO 145, 2.8 mi. S. of Ophir, Ophir, 10000035

Summit County

Soda Creek Ranch, Off Keystone Ranch Rd. and Co. Rd. 351, Keystone, 10000036

GEORGIA

Muscogee County

Bibb City Historic District, Roughly bounded by Chattahoochee River, Woodland Cir., 2nd Ave. and 35th St., Bibb City, 10000037

ILLINOIS

Du Page County

Baker, George, House, 1 S. 500 Taylor Rd., Glen Ellyn, 10000038

MASSACHUSETTS

Essex County

First Parish Burial Ground, 122-R Centennial Ave., Gloucester, 10000040

Middlesex County

Saint Joseph's Roman Catholic College for Boys, 760 Merrimack St., Lowell, 10000041

Suffolk County

EDNA G. shipwreck (Eastern Rig dragger) (Eastern Rig Dragger Fishing Vessel Shipwrecks in the Stellwagen Bank National Marine Sanctuary), Address Restricted, Boston, 10000039

MONTANA

Missoula County

Moon-Randolph Ranch, 1515 Spurlock Rd., Missoula, 10000042

NEW YORK

Erie County

Kamman, Building, The, (Hydraulics/Larkin Neighborhood, Buffalo, Erie County, NY), 755 Seneca St., Buffalo, 10000043

Orleans County

Butterfield Cobblestone House (Cobblestone Architecture of New York State MPS), 4690 Bennetts Corners Rd., Holley, 10000044

Westchester County

Tuckahoe High School, 65 Siwanoy Blvd., Eastchester, 10000045

OHIO

Portage County

May 4, 1970, Kent State Shootings Site, .5 mi. SE of the intersection of E. Main St. and S. Lincoln St., Kent, 10000046

SOUTH DAKOTA

Brookings County

Haugen, E.E., Residence, 202 5th St., Brookings, 10000047

Davison County

Bauer, Whittier and Virginia, Residence, 600 E. 4th Ave., Mitchell, 10000048

Haakon County

Waddell Block, Lot 1, Block 7, Philip, 10000049

TEXAS

Brazoria County

Dow, Alden B., Office and Lake Jackson City Hall, 101 S. Parking Pl., Lake Jackson, 10000050

Tarrant County

Oakhurst Historic District

(Historic Residential Suburbs in the United States, 1830-1960 MPS), Roughly bounded by Yucca Ave., Sylvania Ave., Watauga Ave., and Oakhurst Scenic Dr., Fort Worth, 10000051

WISCONSIN

Sheboygan County

Downtown Churches Historic District,

Generally bounded by Erie Ave., N. 6th St., Ontario Ave., and N. 7th St., Sheboygan, 10000052

[FR Doc. 2010-2216 Filed 2-2-10; 8:45 am]

BILLING CODE P